INTERNATIONAL TRADE COMMISSION

[Investigation No. 337-TA-584]

In the Matter of Certain Alendronate Salts and Products Containing Same; Notice of Commission Decision Not To Review an Initial Determination Extending the Target Date for Completion of the Investigation

AGENCY: International Trade Commission.

ACTION: Notice.

SUMMARY: Notice is hereby given that the U.S. International Trade Commission has determined not to review an initial determination (“ID”) (Order No. 9) issued by the presiding administrative law judge (“ALJ”) extending the target date for completion of the above-captioned investigation to February 25, 2008.

FOR FURTHER INFORMATION CONTACT: Christal A. Sheppard, Esq., Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on September 22, 2006, based on a complaint filed by Merck & Co., Inc., of Whitehouse Station, New Jersey. The complaint alleges violations of section 337 of the Tariff Act of 1930 (19 U.S.C. 1337) in the importation into the United States, the sale for importation, and the sale within the United States after importation of certain alendronate salts and products containing the same by reason of infringement of claims 1—5 of United States Patent No. 4,922,007. The complainant requests that the ITC issue a permanent limited exclusion order and a permanent cease and desist order. The complaint further alleges that an industry exists as required by subsection (a)(2) of section 337. The complaint named CIPLA, Ltd., of Mumbai, India as respondent in this investigation.

On January 16, 2007, the ALJ issued an ID (Order No. 9) extending the target date of this investigation by five months to February 25, 2008, and the deadline for his final initial determination to October 25, 2007. The Commission has determined not to review this ID.

The authority for the Commission's determination is contained in section 337 of the Tariff Act of 1930, as amended (19 U.S.C. 1337), and in section 210.42 of the Commission's Rules of Practice and Procedure (19 CFR 210.42).

By order of the Commission.
Issued: May 22, 2007.
Marilyn R. Abbott,
Secretary to the Commission.

[FR Doc. E7-10148 Filed 5-25-07; 8:45 am]

BILLING CODE 7020-02-P